DEPARTMENT OF LABOR

Employment and Training Administration

[TA-W-58,994]

Commercial Furniture Group, Inc., Formerly Known as Falcon Products, Inc., Morristown, TN; Notice of Termination of Investigation

Pursuant to section 221 of the Trade Act of 1974, as amended, an investigation was initiated on March 10, 2005 in response to a petition filed on behalf of workers at Commercial Furniture Group, Inc., formerly known as Falcon Products, Inc., Morristown, Tennessee.

The petitioning worker group is covered by petition certification numbers TA-W-57,691 and 57,691A, amended on March 21, 2006, to reflect the company name change from Falcon Products, Inc., to Commercial Furniture Group, Inc.

Consequently, further investigation in this case would serve no purpose, and the investigation has been terminated.

Signed at Washington, DC this 23rd day of March, 2006.
Linda G. Poole,
Certifying Officer, Division of Trade Adjustment Assistance.

[FR Doc. E6-5372 Filed 4-11-06; 8:45 am]

BILLING CODE 4510-30-P